COMMITTEE FOR THE IMPLEMENTATION OF TEXTILE AGREEMENTS

Request for Public Comment on a Petition to Amend a Rule of Origin under the North American Free Trade Agreement (NAFTA)

March 19, 2002.

AGENCY: Committee for the Implementation of Textile Agreements (CITA).

ACTION: Request for Public Comments concerning a petition filed under Section 7.2 of Annex 300-B of NAFTA to amend the NAFTA rules of origin for certain men’s and boy’s woven shirts.

SUMMARY: On February 26, 2002 the Chairman of CITA received a petition from the American Textile Manufacturers Institute (ATMI) requesting CITA to commence consultations with the governments of Canada and Mexico for the purpose of amending the rules of origin set forth in Annex 401 of the NAFTA for Harmonized Tariff Schedule (HTS) subheadings 6205.20 - 6205.30. In particular, ATMI requests that paragraph (c) of the subheading rule applicable to HTS subheadings 6205.20 - 6205.30 be deleted.

ATMI claims that the fabrics described in paragraph (c) of the subheading note are currently being produced in commercial quantities in the United States and are available in a timely manner. Specifically, ATMI claims that Dan River, Inc., an ATMI member, currently has in its line a fabric that conforms to the following specifications:

Fiber content | 60% cotton / 40% polyester
Weight | 108.5 grams per square meter
Construction | Plain weave, not of square construction
Thread count | 74 per square centimeter
Average yarn size | 71.07 metric
Finish | Available bleached and dyed

A modification of the NAFTA rules of origin may only be made after reaching agreement with the other NAFTA parties. CITA hereby solicits public comments on this petition, in particular with regard to whether the fabric described above can be supplied by the domestic industry in commercial quantities in a timely manner. Comments must be submitted by April 24, 2002.

FOR FURTHER INFORMATION CONTACT: Martin Walsh, Office of Textiles and Apparel, U.S. Department of Commerce, (202) 482-3400.

SUPPLEMENTARY INFORMATION:

Authority: Section 204 of the Agricultural Act of 1956, as amended (7 USC 1854); Section 202(q) of the North American Free Trade Agreement Implementation Act (19 USC 3332(q)); Executive Order 11651 of March 3, 1972, as amended

BACKGROUND:

Under the North American Free Trade Agreement (NAFTA), NAFTA countries are required to eliminate customs duties on textile and apparel goods that qualify as originating goods under the NAFTA rules of origin, which are set out in Annex 401 to the NAFTA. The NAFTA provides that the rules of origin for textile and apparel products may be amended through a subsequent agreement by the NAFTA countries. In consultations regarding such a change, the NAFTA countries are to consider issues of availability of supply of fibers, yarns, or fabrics in the free trade area and whether domestic producers are capable of supplying commercial quantities of the good in a timely manner. The Statement of Administrative Action (SAA) that accompanied the NAFTA Implementation Act stated that any interested person may submit to CITA a request for a modification to a particular rule of origin based on a change in the availability in North America of a particular fiber, yarn or fabric and that the requesting party would bear the burden of demonstrating that a change is warranted. The SAA provides that CITA may make a recommendation to the President regarding a change to a rule of origin for a textile or apparel good. The NAFTA Implementation Act provides the President with the authority to proclaim modifications to the NAFTA rules of origin as are necessary to implement an agreement with one or more NAFTA country on such a modification.

On February 26, 2002 the Chairman of CITA received a petition from the American Textile Manufacturers Institute (ATMI) requesting CITA to commence consultations with the governments of Canada and Mexico for the purpose of amending the rules of origin set forth in Annex 401 of the NAFTA for Harmonized Tariff Schedule (HTS) subheadings 6205.20 - 6205.30. In particular, ATMI requests that paragraph (c) of the subheading rule applicable to HTS subheadings 6205.20 - 6205.30 be deleted.

ATMI claims that the fabrics described in paragraph (c) of the subheading note are currently being produced in commercial quantities in the United States and are available in a timely manner. Specifically, ATMI claims that Dan River, Inc., an ATMI member, currently has in its line a fabric that conforms to the following specifications:

Fiber content | 60% cotton / 40% polyester
Weight | 108.5 grams per square meter
Construction | Plain weave, not of square construction
Thread count | 74 per square centimeter
Average yarn size | 71.07 metric
Finish | Available bleached and dyed

CITA is soliciting public comments regarding this request, particularly with respect to whether the fabric described above can be supplied by the domestic industry in commercial quantities in a timely manner. Comments must be received no later than April 24, 2002. Interested persons are invited to submit six copies of such comments or information to the Chairman, Committee for the Implementation of Textile Agreements, room 3100, U.S. Department of Commerce, 14th and Constitution Avenue, N.W., Washington, DC 20230.

If a comment alleges that the fabric described above cannot be supplied by the domestic industry in commercial quantities in a timely manner, CITA will closely review any supporting documentation, such as a signed statement by a manufacturer of men’s shirts stating that it attempted to purchase U.S. made fabric of the kind described above, including quantities requested and the required time frame for delivery, and found no U.S. producers able to fill the order.

CITA will protect any business confidential information that is marked business confidential from disclosure to the full extent permitted by law. CITA will make available to the public non-confidential versions of the request and non-confidential versions of any public comments received with respect to a request in room 3100 in the Herbert Hoover Building, 14th and Constitution Avenue, N.W., Washington, DC 20230. Persons submitting comments on a request are encouraged to include a non-confidential version and a non-confidential summary.

James C. Leonard III,
Chairman, Committee for the Implementation of Textile Agreements.

[FR Doc.02-7071 Filed 3-22-02; 8:45 am]

BILLING CODE 3510-DR-S